DEPARTMENT OF ENERGY

Federal Energy Regulatory Commission

Sunshine Act Notice

January 22, 2003.

The following notice of meeting is published pursuant to section 3(a) of the Government in the Sunshine Act (Pub. L. 94-409), 5 U.S.C 552B:

Agency Holding Meeting: Federal Energy Regulatory Commission.

Date and Time: January 29, 2003, 10 a.m.

Place: Room 2C, 888 First Street, NE., Washington, DC 20426.

Status: Open.

Matters to be Considered: Agenda.

Note: items listed on the agenda may be deleted without further notice.

CONTACT PERSON FOR MORE INFORMATION: Magalie R. Salas, Secretary, Telephone, (202) 502-8400. For a recording listing items stricken from or added to the meeting, call (202) 502-8627.

This is a list of matters to be considered by the commission. It does not include a listing of all papers relevant to the items on the agenda; however, all public documents may be examined in the reference and information center.

817th—Meeting January 29, 2003, Regular Meeting, 10 a.m.

Administrative Agenda

A-1.

Docket# AD02-1, 000, Agency Administrative Matters

A-2.

Docket# AD02-7, 000, Customer Matters, Reliability, Security and Market Operations

A-3.

Presentation on Winter Market Assessment

A-4.

Seams Resolution Presentation—RTO West, West Connect, California ISO

Markets, Tariffs and Rates—Electric

E-1.

Docket# EL03-38, 000, Cargill Power Markets, LLC v. Midwest Independent Transmission System Operator, Inc.

E-2.

Docket# EL03-30, 000, Tenaska Power Services Co. v. Midwest Independent Transmission System Operator, Inc.

E-3.

Docket# EL02-101, 001, Cleco Power LLC, Dalton Utilities, Entergy Services, Inc., Georgia Transmission Corporation, JEA, MEAG Power, Sam Rayburn G & T Electric Cooperative, Inc., South Carolina Public Service Authority, Southern Company Services, Inc., and the City of Tallahassee, Florida

E-4.

Docket# ER03-265, 000, Midwest Independent Transmission System Operator, Inc.

E-5.

Docket# ER02-1330, 002, Pacific Gas & Electric Company

Other#s EL02-88, 000, Wrightsville Power Facility, L.L.C. v. Entergy Arkansas, Inc.

ER02-1069, 001, Entergy Services, Inc.

ER02-1151, 001, Entergy Services, Inc.

ER02-1472, 001, Entergy Gulf States, Inc.

ER02-2243, 002, Entergy Services, Inc.

EL03-3, 000, Entergy Services, Inc.

EL03-4, 000, Entergy Gulf States, Inc.

EL03-5, 000, Entergy Services, Inc.

EL03-12, 000, Kinder Morgan Michigan, LLC v. Michigan Electric Transmission Company, LLC

EL03-13, 000, Entergy Services Inc.

E-6.

Docket# ER02-199, 000, Mississippi Power Company

Other#s EL02-50, 000, Southern Company Services, Inc.

ER02-218, 000, Southern Company Services, Inc.

ER02-219, 000, Southern Company Services, Inc.

ER02-220, 000, Southern Company Services, Inc.

ER02-221, 000, Southern Company Services, Inc.

ER02-222, 000, Southern Company Services, Inc.

ER02-223, 000, Southern Company Services, Inc.

ER02-224, 000, Southern Company Services, Inc.

ER02-225, 000, Southern Company Services, Inc.

ER02-226, 000, Southern Company Services, Inc.

ER02-227, 000, Georgia Power Company

ER02-228, 000, Georgia Power Company

ER02-229, 000, Alabama Power Company

ER02-230, 000, Alabama Power Company

ER02-498, 000, Gulf Power Company

ER02-788, 000, Gulf Power Company

E-7.

Docket# ER03-210, 000, New England Power Pool

E-8.

Docket# ER03-117, 000, Duke Energy South Bay, LLC

E-9.

Docket# ER03-116, 000, Duke Energy Oakland, LLC

E-10.

Docket# ER03-94, 000, Pacific Gas and Electric Company

E-11.

Docket# ER03-238, 000, New York Independent System Operator, Inc.

E-12.

Omitted

E-13.

Docket# ER03-171, 000, Entergy Services, Inc

Other#s ER03-171, 001, Entergy Services, Inc.

E-14.

Docket# ER03-291, 000, New England Power Company

E-15.

Docket# ER03-304, 000, Consolidated Edison Energy, Inc., and Rockland Electric Company

E-16.

Docket# ER03-106, 000, Virginia Electric and Power Company

Other#s ER03-106, 001, Virginia Electric and Power Company

ER03-106, 002, Virginia Electric and Power Company

E-17.

Omitted

E-18.

Omitted

E-19.

Docket# ER02-64, 000, Mirant Delta, LLC and Mirant Potrero, LLC

Other#s ER02-198, 000, Mirant Delta, LLC and Mirant Potrero, LLC

ER02-198, 001, Mirant Delta, LLC and Mirant Potrero, LLC

ER02-198, 002, Mirant Delta, LLC and Mirant Potrero, LLC

ER02-198, 003, Mirant Delta, LLC and Mirant Potrero, LLC

E-20.

Docket# ER01-2201, 000, Entergy Services, Inc.

Other#s EL02-46, 000, Generator Coalition v. Entergy Services, Inc.

E-21.

Docket# ER03-119, 000, Southern Operating Services, Company

ER03-120, 000, Alabama Power Company

ER03-121, 000, Alabama Power Company

ER03-122, 000, Mississippi Power Company

ER03-123, 000, Southern Operating Services, Company

ER03-124, 000, Southern Operating Services, Company

ER03-125, 000, Southern Operating Services, Company

ER03-126, 000, Southern Operating Services, Company

ER03-127, 000, Southern Operating Services, Company

ER03-128, 000, Southern Operating Services, Company

ER03-129, 000, Southern Operating Services, Company

ER03-130, 000, Georgia Power Company

ER03-131, 000, Georgia Power Company

ER03-135, 000, Gulf Power Company

ER03-136, 000, Gulf Power Company

E-22.

Omitted

E-23.

Docket# ER02-1784, 001, NorthWestern Energy, L.L.C.

Other#s SC00-1, 004, NorthWestern Energy, L.L.C.

E-24.

Docket# EL02-103, 000, City of Vernon, California

Other#s EL02-103, 001, City of Vernon, California

E-25.

Docket# ER97-2358, 000, Pacific Gas and Electric Company

Other#s ER98-2351, 000, Pacific Gas and Electric Company

E-26.

Docket# ER02-1974, 000, Midwest Independent Transmission System Operator, Inc.

Other#s ER02-1975, 000, Midwest Independent Transmission System Operator, Inc.

E-27.

Omitted

E-28.

Docket# ER02-1705, 002, Southwest Power Pool, Inc.

E-29.

Docket# EL02-89 001, Tenaska Power Services Company v. Southwest Power Pool, Inc.

E-30.

Docket# EL02-95, 001, Constellation Power Source, Inc. v. American Electric Power Service Corporation and Southwest Power Pool, Inc.

Other#s ER02-2028, 001, American Electric Power Service Corporation

E-31.

Docket# ER02-2321, 002, California Independent System Operator Corporation

E-32.

Omitted

E-33.

Docket# ER02-485, 002, Midwest Independent Transmission System Operator, Inc.

E-34.

Omitted

E-35.

Docket# EL02-121, 001, Occidental Chemical Corporation v. PJM Interconnection, L.L.C., and Delmarva Power and Light Company

Other#s EL02-121, 002, Occidental Chemical Corporation v. PJM Interconnection, L.L.C., v. PJM Interconnection, L.L.C., and Delmarva Power and Light Company

E-36.

Docket# ER02-1021, 002, Ontario Energy Trading International Corp.

E-37.

Omitted

E-38.

Docket# ER03-15, 001, Consumers Energy Company

E-39.

Docket# EL02-128, 000, Sithe New England, LLC v. ISO New England, Inc.

E-40.

Docket# EL03-25, 000, NSTAR Electric and Gas Corporation, Central Vermont Public Service Corporation, PPL Energy Plus, LLC, United Illuminating Company, Unitil Power Corp., and Fitchburg Gas and Electric Light Company v. New England Power Pool

E-41.

Docket# EL03-29, 000, PG&E Energy Trading-Power, L.P. v. California Power Exchange Corporation

E-42.

Docket# EC02-113, 000, Cinergy Services, Inc. on behalf of PSI Energy, Inc., CinCap Madison, LLC and CinCap VII, LLC

E-43.

Docket# EL02-117, 000, City of Burbank, California v. Calpine Energy Services,L.P., Duke Energy Trading and Marketing, L.L.C. and El Paso Merchant Energy, L.P.

Other#s EL02-119, 000, The Kroger Co., v. Dynegy Power Marketing, Inc.

Miscellaneous Agenda

M-1.

Docket# RM03-5, 000, Amendment to Delegations of Authority to the Chief Administrative Law Judge

G-1.

Docket# GT02-38, 002, Northern Natural Gas Company

Other#s

GT02-38, 001, Northern Natural Gas Company

GT02-38, 003, Northern Natural Gas Company

G-2.

Docket# GT02-35, 000, Tennessee Gas Pipeline Company

Other#s GT02-35, 001, Tennessee Gas Pipeline Company

G-3.

Docket# RP02-363, 003, North Baja Pipeline LLC

G-4.

Omitted

G-5.

Docket# OR02-13, 000, SFPP, L.P.

G-6.

Docket# OR92-8, 017, SFPP, L.P.

Other#s OR92-8, 018, SFPP, L.P.

OR92-8, 019, SFPP, L.P.

OR93-5, 014, SFPP, L.P.

OR93-5, 015, SFPP, L.P.

OR93-5, 016, SFPP, L.P.

OR94-3, 013, SFPP, L.P.

OR94-3, 014, SFPP, L.P.

OR94-3, 015, SFPP, L.P.

OR94-4, 015, SFPP, L.P.

OR94-4, 016, SFPP, L.P.

OR94-4, 017, SFPP, L.P.

OR95-5, 012, Mobil Oil Corporation v. SFPP, L.P.

OR95-5, 013, Mobil Oil Corporation v. SFPP, L.P.

OR95-5, 014, Mobil Oil Corporation v. SFPP, L.P.

OR95-34, 011, Tosco Corporation v. SFPP, L.P.

OR95-34, 012, Tosco Corporation v. SFPP, L.P.

OR95-34, 013, Tosco Corporation v. SFPP, L.P.

IS99-144, 009, SFPP, L.P.

IS99-144, 010, SFPP, L.P.

IS99-144, 011, SFPP, L.P.

IS00-379, 009, SFPP, L.P.

IS00-379, 010, SFPP, L.P.

IS00-379, 011, SFPP, L.P.

IS02-46, 002, SFPP, L.P.

IS02-46, 003, SFPP, L.P.

IS02-46, 004, SFPP, L.P.

IS02-82, 002, SFPP, L.P.

IS02-82, 003, SFPP, L.P.

IS02-82, 004, SFPP, L.P.

G-7.

Docket# RP02-492, 002, Algonquin Gas Transmission Company

Other#s RP02-492, 001, Algonquin Gas Transmission Company

G-8.

Docket# RP02-494, 002, Texas Eastern Transmission, L.P.

Other#s RP02-494, 001, Texas Eastern Transmission, L.P.

G-9.

Docket# RP02-489, 002, Maritimes & Northeast Pipeline, L.L.C.

Other#s RP02-489, 001, Maritimes & Northeast Pipeline, L.L.C.

G-10.

Docket# RP02-493, 002, East Tennessee Natural Gas Company

Other#s RP02-493, 001, East Tennessee Natural Gas Company

G-11.

Docket# RP02-425, 002, Texas Gas Transmission Corporation

Other#s RP02-425, 001, Texas Gas Transmission Corporation

G-12.

Docket# RP02-427, 001, Williams Gas Pipelines Central, Inc.

Other#s RP02-427, 002, Williams Gas Pipelines Central, Inc.

G-13.

Docket# RP02-318, 000, Questar Southern Trails Pipeline Company

Other#s RP02-318, 001, Questar Southern Trails Pipeline Company

G-14.

Docket# RP96-200, 092, CenterPoint Energy Gas Transmission Company (formerly Reliant Energy Gas Transmission Company)

G-15.

Docket# RP99-176, 075, Natural Gas Pipeline Company of America

G-16.

Omitted

G-17.

Docket# RP03-218, 000, Colorado Interstate Gas Company

G-18.

Docket# RP03-195, 000, Dominion Transmission, Inc.

G-19.

Docket# RP03-189, 000, Great Lakes Gas Transmission Limited Partnership

G-20.

Docket# RP03-228, 000, Alliance Pipeline L.P.

G-21.

Docket# RP03-210, 000, Guardian Pipeline, L.L.C.

G-22.

Docket# RP03-221, 000, High Island Offshore System, L.L.C.

G-23.

Docket# RP03-217, 000, Wyoming Interstate Company, Ltd.

G-24.

Docket# RP03-222, 000, Columbia Gas Transmission Corporation

G-25.

Docket# RP00-488, 001, Portland Natural Gas Transmission System

Other#s RP01-50, 002, Portland Natural Gas Transmission System

RP03-179, 000, Portland Natural Gas Transmission System

G-26.

Docket# RP03-17, 000, Missouri Interstate Gas, L.L.C.

G-27.

Docket# RP02-99, 005, Shell Offshore Inc., v. Transcontinental Gas Pipeline Corp., Williams Gas Processing-Gulf Coast Co., L.P., Williams Field Services Co., and Williams Gulf Coast Gathering Co., L.L.C.

G-28.

Docket# RP03-16, 001, Pan-Alberta Gas (US) Inc., and Mirant Americas Energy Marketing, L.P. v. Northern Border Pipeline Company

G-29.

Docket# RP00-411, 003, Iroquois Gas Transmission System, L.P.

Other#s RP01-44, 005, Iroquois Gas Transmission System, L.P.

G-30.

Docket# RP01-35, 001, Norteño Pipeline Company

Other#s RP01-92, 001, Norteño Pipeline Company

G-31.

Docket# RP02-561, 002, CenterPoint Energy Gas Transmission (formerly Reliant Energy Gas Transmission Company)

G-32.

Docket# RP02-123, 000, Williams Gas Pipelines Central, Inc.

Other#s RP03-116, 000, Williams Gas Pipelines Central, Inc.

G-33.

Docket# GP99-16, 000, Northern Natural Gas Company

Other#s GP99-17, 000, Northern Natural Gas Company

G-34.

Docket# RP99-518, 032, PG&E Gas Transmisson, Northwest Corporation

G-35.

Docket# RP00-325, 002, Colorado Interstate Gas Company

Other#s RP01-38, 002, Colorado Interstate Gas Company

G-36.

Omitted

G-37.

Docket# RP02-179, 003, Williams Gas Pipelines Central, Inc.

G-38.

Docket# RP02-216, 003, Reliant Energy Gas Transmission Company

G-39.

Omitted

G-40.

Docket# RP00-632, 011, Dominion Transmission, Inc.

G-41.

Docket# RP01-620, 000, Transwestern Pipeline Company v. Southern California Gas Company

G-42.

Docket# RP97-288, 009, Transwestern Pipeline Company

Other#s RP97-288, 010, Transwestern Pipeline Company

RP97-288, 011, Transwestern Pipeline Company

RP97-288, 012, Transwestern Pipeline Company

RP97-288, 013, Transwestern Pipeline Company

RP97-288, 014, Transwestern Pipeline Company

RP97-288, 015, Transwestern Pipeline Company

RP97-288, 016, Transwestern Pipeline Company

RP97-288, 017, Transwestern Pipeline Company

RP97-288, 018, Transwestern Pipeline Company

RP97-288, 019, Transwestern Pipeline Company

RP97-288, 020, Transwestern Pipeline Company

RP97-288, 022, Transwestern Pipeline Company

RP97-288, 024, Transwestern Pipeline Company

RP97-288, 025, Transwestern Pipeline Company

RP97-288, 026, Transwestern Pipeline Company

RP97-288, 027, Transwestern Pipeline Company

RP01-507, 000, Transwestern Pipeline Company

RP01-507, 001, Transwestern Pipeline Company

RP01-507, 002, Transwestern Pipeline Company

G-43. Docket# RP98-54 035 Colorado Interstate Gas Company

Other#s SA98-96, 000, IMC Global Operations Inc.

G-44.

Docket# OR02-6, 000, Sinclair Oil Corporation v. Rocky Mountain Pipeline System LLC and BP Pipelines (North America), Inc.

G-45.

Docket# OR03-1, 000, Phillips Petroleum Company v. Platte Pipe Line Company

Other#s OR02-5, 002, Big West Oil, LLC

OR02-8, 002, Express Pipeline LLC

IS02-384, 000, Platte Pipe Line Company

Energy Projects—Hydro

H-1.

Docket# P-2318, 017, Erie Boulevard Hydropower, L.P.

Other#s P-2047, 017, Erie Boulevard Hydropower, L.P.

P-2482, 038, Erie Boulevard Hydropower, L.P.

P-2554, 020, Erie Boulevard Hydropower, L.P.

P-12252, 001, Hudson River-Black River Regulating District

H-2.

Docket# P-4718, 026, Cocheco Falls Associates

H-3.

Docket# P-10855, 003, Upper Peninsula Power Company

H-4.

Docket# P-2589, 027, Marquette Board of Light and Power

H-5.

Docket# P-2661, 018, Pacific Gas and Electric Company

H-6.

Docket# P-2616, 025, Erie Boulevard Hydropower, L.P.

H-7.

Docket# P-4632, 027, Clifton Power Corporation

H-8.

Docket# P-5, 072, PPL Montana, LLC and Confederated Salish and Kootenai Tribes of the Flathead Nation

H-9.

Docket# P-2738 049 New York State Electric & Gas Corporation

Energy Projects—Certificates

C-1.

Omitted

C-2.

Docket# CP02-420, 000, Red Lake Gas Storage, L.P.

Other#s CP02-421, 000, Red Lake Gas Storage, L.P.

CP02-422, 000, Red Lake Gas Storage, L.P.

C-3.

Docket# CP02-430, 000, Saltville Gas Storage Company, LLC

C-4.

Docket# CP02-1, 002, Southern Natural Gas Company

C-5.

Docket# CP02-99, 001, Transcontinental Gas Pipe Line Corporation

C-6.

Docket# CP02-31, 001, Iroquois Gas Transmission System, L.P.

C-7.

Docket# CP02-141, 000, Transcontinental Gas Pipe Line Corporation

Magalie R. Salas,
Secretary.

[FR Doc. 03-2010 Filed 1-24-03; 11:15 am]

BILLING CODE 6717-01-P